CORPORATION FOR NATIONAL AND COMMUNITY SERVICE

Agency Information Collection Activities; Submission to the Office of Management and Budget for Review and Approval; Comment Request; Application Package for Granteee Project Progress Report (PPR) Data Collection

AGENCY: Corporation for National and Community Service.

ACTION: Notice of information collection; request for comment.

SUMMARY: The Corporation for National and Community Service, operating as AmeriCorps, has submitted a public information collection request (ICR) entitled Application Package for Granteee Project Progress Report (PPR) Data Collection (formerly known as the Grantee Progress Report (GPR) Data Collection) for review and approval in accordance with the Paperwork Reduction Act.

DATES: Written comments must be submitted to the individual and office listed in the ADDRESSES section by November 30, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Sarah Foster, at 202-606-6755 or by email to sfoster@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day notice requesting public comment was published in the Federal Register on Tuesday, July 12, 2022 at 87 FR 41297. This comment period ended September 12, 2022. Zero public comments were received from this notice.

Title of Collection: Granteee Project Progress Report (PPR) Data Collection.

OMB Control Number: 3045-0184.

Type of Review: Revision.

Respondents/Affected Public: Businesses and organizations; State, local or Tribal governments.

Total Estimated Number of Annual Responses: 350 respondents for AmeriCorps State and National. 52 respondents each for Commission Support Grants and Commission Investment Funds.

Total Estimated Number of Annual Burden Hours: 12,240.

Abstract: AmeriCorps uses information collected via the Project Progress Reports (PPRs), formerly known as Grantee Progress Reports (GPRs), to assess grantee progress toward meeting approved objectives; to identify areas of challenge and opportunity; to guide the allocation of training and technical assistance resources; and to compile portfolio-wide data to report to external stakeholders. AmeriCorps seeks to revise the current information collection. The revisions are intended to capture data related to new funding opportunities. The information collection will otherwise be used in the same manner as the existing application. AmeriCorps also seeks to continue using the current progress report instruments until the revised instrument is approved by OMB. The current information collection is due to expire on October 31, 2022.

Sonali Nijhawan,
Director, AmeriCorps State and National.

[FR Doc. 2022-23620 Filed 10-28-22; 8:45 am]

BILLING CODE 6050-28-P